DEPARTMENT OF DEFENSE

Department of the Air Force

Request for Public Review And Comment of the New Navstar GPS Space Segment/Navigation User Segment L1c (L1 Civil) Interface Specification (IS)

AGENCY: Department of the Air Force.

ACTION: Notice and Request for Review/Comment of new IS-GPS-800.

SUMMARY: This notice informs the public that the Global Positioning System (GPS) Joint Program Office (JPO) proposes to define and implement new L1C signal as specified in IS-GPS-800, Navstar GPS Space Segment/Navigation User L1C Interfaces. This new Interface Specification (IS), IS-GPS-800, provides detailed and necessary information for the new proposed L1C signal which is planned to be broadcast from the next generation of GPS satellites identified as Block III. The draft IS-GPS-800 was first available to the public for review and comments on 20 April 2006. The review and comment period will be limited to 45 days from the day it is first made available to the public. The draft document will be available for view and for download at the following Web site: http://gps.losangeles.af.mil. Click on “System Engineering”, then “Public Interface Control Working Group (ICWG)”. Reviewers should save the document to a local memory location prior to opening and performing the review. It is requested that any review comments be submitted using the comment matrix form provided at the web site.

ADDRESSES: Submit comments to SMC/GPEE, Attn: Lt Sean Lenahan, 483 N Aviation Blvd, El Segundo, CA 90245-2808, Attn: Lt Sean Lenahan. Comments may also be submitted to either the following Internet addresses: Lawrence.Lenahan@losangeles.af.mil or Hudnut@usgs.gov, or, by fax to 1-310-653-3676.

DATES: The draft IS-GPS-800 will be made available to the public at or about 20 April 2006 and suspense date for comment submittal is 45 days after the release of the document (at or about 24 May 2006).

FOR FURTHER INFORMATION CONTACT: GPEE at 1-310-653-3496, GPS JPO System Engineering Division, or write to one of the addresses above.

SUPPLEMENTARY INFORMATION: The international position, navigation, and timing communities use the Global Positioning System, which employs a constellation of satellites at Medium Earth Orbit to provide continuously, transmitted signals to enable appropriately configured GPS user equipment to produce accurate position, navigation, and time information.

Bao-Anh Trinh,
Air Force Federal Register Liaison Officer.

[FR Doc. E6-6498 Filed 4-28-06; 8:45 am]

BILLING CODE 5001-05-P